DEPARTMENT OF ENERGY

Environmental Management Site-Specific Advisory Board, Idaho

AGENCY: Department of Energy.

ACTION: Notice of open meeting.

SUMMARY: This notice announces a meeting of the Environmental Management Site-Specific Advisory Board (EM SSAB), Idaho National Engineering and Environmental Laboratory (INEEL). Federal Advisory Committee Act (Pub. L. No. 92-463, 86 Stat. 770) requires that public notice of these meetings be announced in the Federal Register.

DATES:

Monday, July 17, 2000—8:00 a.m.-5:00 p.m. (Site Tour)

Tuesday, July 18, 2000—8:00 a.m.-6:00 p.m.

Wednesday, July 19, 2000—8:00 a.m.-5:00 p.m.

ADDRESSES: Ameritel Inn, 645 Lindsay Boulevard, Idaho Falls, Idaho.

FOR FURTHER INFORMATION CONTACT: Ms. Wendy Lowe, INEEL SSAB Facilitator Jason Associates Corporation, 477 Shoup Avenue, Suite 205, Idaho Falls, ID 83402, (208-522-1662) or visit the Board's Internet homepage at http://www.ida.net/users/cab.

SUPPLEMENTARY INFORMATION: Purpose of the Board: The purpose of the Board is to make recommendations to DOE and its regulators in the areas of future use, cleanup levels, waste disposition and cleanup priorities at the INEEL.

Tentative Agenda:

Presentations and Discussions on the Following:

• Feasibility of developing a joint recommendation addressing containers used to ship waste to the Waste Isolation Pilot Plant with the Northern New Mexico SSAB.

• Fire in Los Alamos, New Mexico, and lessons learned from the fire (with members of the Los Alamos SSAB).

• Proposed relocation of the missions currently conducted at the Los Alamos National Laboratory Technical Area 18 (with members of the Los Alamos SSAB).

• The Waste Management Program at the Idaho National Engineering and Environmental Laboratory.

• The recent decision to cancel the incinerator for the Advanced Mixed Waste Treatment Project, the Blue Ribbon Panel reviewing treatment options, and the adequacy of National Environmental Policy Act documentation for the facility.

• The decision to shut down the high-level waste calciner and the implications of that decision on the National Environmental Policy Act documentation for the high-level waste program, and DOE's ability to comply with the Idaho Settlement Agreement.

Discussion and Finalization of the Following:

• Endorsement of the Common Principles developed by the Site Specific Advisory Board Chairs.

• Recommendation addressing changes in the delegation of authority for decision making regarding cleanup.

Presentation and Finalization of the Following:

• A recommendation on the Notice of Intent to shut down the Waste Experimental Reduction Facility incinerator.

(Agenda topics may change up to the day of the meeting; please call the FOR FURTHER INFORMATION CONTACT in this notice for the current agenda or visit the Internet site.)

Public Participation: This meeting is open to the public. Written statements may be filed with the Board facilitator before or after the meeting. Individuals who wish to make oral presentations pertaining to agenda items should contact the Board Chair at the address or telephone number listed above. Requests must be received 5 days prior to the meeting and reasonable provision will be made to include the presentation in the agenda. The Deputy Designated Federal Officer, Jerry Bowman, Assistant Manager for Laboratory Development, Idaho Operations Office, U.S. Department of Energy, is empowered to conduct the meeting in a fashion that will facilitate the orderly conduct of business. Every individual wishing to make public comment will be provided equal time to present their comments.

Minutes: The minutes of this meeting will be available for public review and copying at the Freedom of Information Public Reading Room, 1E-190, Forrestal Building, 1000 Independence Avenue, SW, Washington, DC 20585 between 9:00 a.m. and 4:00 p.m., Monday-Friday, except Federal holidays. Minutes will also be available by writing to Stanely Hobson, INEEL CAB Chair, 477 Shoup Ave., Suite 205, Idaho Falls, Idaho 83402 or by calling the Board's facilitator at (208) 522-1662.

Issued at Washington, DC on June 20, 2000.
Rachel Samuel,
Deputy Advisory Committee Management Officer.

[FR Doc. 00-16049 Filed 6-23-00; 8:45 am]

BILLING CODE 6450-01-P